DEPARTMENT OF COMMERCE

International Trade Administration

[A-570-863]

Honey From the People's Republic of China: Final Results and Rescission of Antidumping Duty New Shipper Reviews

AGENCY: Import Administration, International Trade Administration, Department of Commerce.

DATES: Effective Date: January 25, 2011.

SUMMARY: On September 10, 2010, the Department of Commerce (the “Department”) published the preliminary results of these new shipper reviews (“NSR”), for the period of review (“POR”) of December 1, 2008, through November 30, 2009.¹ Based on our analysis of the comments received, and after reexamining the bona fides of the sales made by Suzhou Shanding Honey Product Co., Ltd. (“Suzhou”) and Wuhu Fenglian Co., Ltd. (“Fenglian”), the Department finds that that sales under review are not bona fide transactions; therefore, for these final results, the Department has rescinded the review with respect to Suzhou and Fenglian.

¹ See Honey From the People's Republic of China: Preliminary Intent To Rescind New Shipper Reviews, 75 FR 55307 (September 10, 2010). Because the sales under review were made during the POR, but entered after the POR, the Department expanded the POR by thirty days.

FOR FURTHER INFORMATION CONTACT: Katie Marksberry and Joshua Startup, Import Administration, International Trade Administration, U.S. Department of Commerce, 14th Street and Constitution Avenue, NW., Washington, DC 20230; telephone: (202) 482-7906 or (202) 482-5260, respectively.

Background

On September 2, 2010, the Department placed U.S. Customs and Border Protection (“CBP”) data on the record of this review. The Department published its Preliminary Results on September 10, 2010. On September 22, 2010, and September 23, 2010, respectively, Suzhou and Fenglian submitted comments containing untimely factual information. On September 23, 2010, and September 24, 2010, respectively, the Department removed the untimely submissions from the record of this review. On September 29, 2010, the Department received surrogate value comments from the respondents. On October 1, 2010, the respondents collectively filed a letter requesting that the Department issue a second post-preliminary supplemental questionnaire. On October 7, 2010, the Department issued a letter to the respondents stating that it would not issue an additional questionnaire. On November 1, 2010, we received individually filed case briefs from Suzhou and Fenglian. On November 9, 2010, we received a single rebuttal brief from Petitioners.² We did not receive any case or rebuttal briefs from any other interested parties.

² The petitioners are the members of the American Honey Producers Association and the Sioux Honey Association (hereinafter referred to as “Petitioners”).

Extension of Time Limits

On October 6, 2010, the Department extended the time limit for these final results by 90 days to January 31, 2011.³

³ See Honey From the People's Republic of China: Extension of Time Limit for the Final Results for New Shipper Review, 75 FR 61697 (October 6, 2010).

Scope of the Order

The products covered by the order are natural honey, artificial honey containing more than 50 percent natural honey by weight, preparations of natural honey containing more than 50 percent natural honey by weight and flavored honey. The subject merchandise includes all grades and colors of honey whether in liquid, creamed, comb, cut comb, or chunk form, and whether packaged for retail or in bulk form.

The merchandise subject to the order is currently classifiable under subheadings 0409.00.00, 1702.90.90 and 2106.90.99 of the Harmonized Tariff Schedule of the United States (“HTSUS”). Although the HTSUS subheadings are provided for convenience and customs purposes, the Department's written description of the merchandise under order is dispositive.

Analysis of Comments Received

All issues raised in the briefs by parties to these reviews are addressed in the “New Shipper Reviews of Honey from the People's Republic of China: Issues and Decision Memorandum,” dated January 31, 2010, which is hereby adopted by this notice (“Issues and Decision Memo”). A list of the issues which parties raised and to which we respond in the Issues and Decision Memo is attached to this notice as an Appendix. The Issues and Decision Memo is a public document and is on file in the Central Records Unit (“CRU”), main Commerce building, Room 7046, and is accessible on the Web at http://www.trade.gov/ia. The paper copy and electronic version of the memorandum are identical in content.

Changes Since the Preliminary Results

We have made no changes to our preliminary decision to rescind the NSRs of Suzhou and Fenglian.

Final Rescission of New Shipper Reviews

In the Preliminary Results, the Department preliminarily rescinded the NSRs for Suzhou and Fenglian, whose POR sales the Department found to be non-bona fide.⁴ The Department received comments with respect to our preliminary decision to rescind the review. For these final results the Department continues to find the sales by Suzhou and Fenglian to be non-bona fide.⁵

⁴ See Preliminary Results; see also Memorandum to the File from Katie Marksberry, International Trade Specialist, through Catherine Bertrand, Program Manager, regarding “Antidumping Duty New Shipper Review of Honey from the People's Republic of China: Bona Fide Analysis of the Sale Under Review for Suzhou Shanding Honey Product Co., Ltd.,” dated September 2, 2010; see also Memorandum to the File from Josh Startup, International Trade Specialist, through Catherine Bertrand, Program Manager, regarding “Antidumping Duty New Shipper Review of Honey from the People's Republic of China: Bona Fide Analysis of the Sale Under Review for Wuhu Fenglian Co., Ltd.,” dated September 2, 2010.

⁵ See Issues and Decision Memorandum at Comments 3 and 4.

Cash-Deposit Requirements

The following cash deposit requirements will be effective upon publication of these final results for all shipments of subject merchandise from Suzhou or Fenglian entered, or withdrawn from warehouse, for consumption on or after the publication date, as provided for by section 751(a)(2)(C) of the Act: (1) For subject merchandise produced and exported by Suzhou or Fenglian, the cash deposit rate will continue to be the PRC-wide rate (i.e., $2.63 per kilogram); (2) for subject merchandise exported by Suzhou or Fenglian but not manufactured by Suzhou or Fenglian, the cash deposit rate will continue to be the PRC-wide rate (i.e., $2.63 per kilogram); and (3) for subject merchandise manufactured by Suzhou or Fenglian, but exported by any other party, the cash deposit rate will be the rate applicable to the exporter. These cash deposit requirements, when imposed, shall remain in effect until further notice.

Administrative Protective Orders

This notice also serves as a reminder to parties subject to administrative protective order (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this determination in accordance with sections 751(a)(2)(B) and 777(i) of the Act, and 19 CFR 351.214(h) and 351.221(b)(5).

Dated: January 13, 2011.
Ronald K. Lorentzen,
Deputy Assistant Secretary for Import Administration.

Appendix I

General Issues

Comment 1: Department's Treatment of Respondents' Post-Preliminary Request for Additional Supplemental Questionnaires

Comment 2: Department's Rejection of Respondents' Submission

Comment 3: Accuracy of the CBP Data

Company Specific Issues

Comment 4: Finding that Suzhou's POR Sale was Non-Bona Fide

Comment 5: Finding that Fenglian's Sale was Non-Bona Fide

[FR Doc. 2011-1388 Filed 1-24-11; 8:45 am]

BILLING CODE 3510-DS-P